DEPARTMENT OF ENERGY

Energy Information Administration

Agency Information Collection Activities: Submission for OMB Review; Comment Request; Correction

AGENCY: Energy Information Administration (EIA), Department of Energy (DOE).

ACTION: Agency Information Collection Activities: Submission for OMB Review; Comment Request; Correction.

SUMMARY: The EIA published a notice in the issue of Friday, September 28, 2007, (72 FR 55193) regarding the submission of the Electric Power Program to the Office of Management and Budget (OMB) for review and a three-year extension. The form EIA-826 was omitted from this notice. In FR Doc. E7-19256, beginning on page 55193, make the following correction: In the third column, SUPPLEMENTARY INFORMATION, the second paragraph is corrected to read: “1. Forms EIA-411, 826, 860, 860M, 861 and 923, “Electric Power Program.”

Issued in Washington, DC, September 28, 2007.
Jay H. Casselberry,
Agency Clearance Officer, Energy Information Administration.

[FR Doc. E7-19614 Filed 10-3-07; 8:45 am]

BILLING CODE 6450-01-P